DEPARTMENT OF THE INTERIOR

Fish and Wildlife Service

[FWS-R2-ES-2009-N0059; 20124-11130000-C2]

Endangered and Threatened Wildlife and Plants; Recovery Plan for the Rio Grande Silvery Minnow (Hybognathus amarus)

AGENCY: Fish and Wildlife Service, Interior.

ACTION: Notice of document availability: draft amendment and supplement to the 2007 Draft revised recovery plan for Rio Grande Silvery Minnow.

SUMMARY: We, the U.S. Fish and Wildlife Service (Service), announce the availability of an amendment and supplement to our draft revised Recovery Plan (Recovery Plan) for the Rio Grande silvery minnow (Hybognathus amarus) under the Endangered Species Act of 1973, as amended (Act). The species currently inhabits the Rio Grande in New Mexico and has been introduced to the Big Bend area of Texas. This amendment and supplement consist of revised draft recovery criteria and a population viability assessment (PVA, or draft Appendix H), respectively. We invite public review and comment on these documents. After review we will incorporate the documents into the Final Recovery Plan (the PVA as Appendix H).

DATES: To ensure consideration, we must receive any comments no later than May 26, 2009.

ADDRESSES: If you wish to review the revised draft recovery criteria and PVA/draft Appendix H, you may obtain a copy from Jennifer Norris, Rio Grande Endangered Species Act Coordinator, by U.S. mail at New Mexico Ecological Services Field Office, U.S. Fish and Wildlife Service, 2105 Osuna Road, Albuquerque, NM 87113; by telephone at 505-761-4710; by facsimile at 505-346-2542; or by e-mail at: Jennifer_Norris@fws.gov. You may also download the documents from http://www.fws.gov/endangered. For more on obtaining and commenting on documents, see “Document Availability.”

FOR FURTHER INFORMATION CONTACT: Jennifer Norris, by telephone at 505-761-4710, by any means under ADDRESSES.

SUPPLEMENTARY INFORMATION:

Background

The Rio Grande silvery minnow was extirpated from about 93 percent of its original range, persisting in only one 280-kilometer (km) ((174-mile (mi))) reach of the Rio Grande in New Mexico, from just downstream of Cochiti Dam to the headwaters of the Elephant Butte Reservoir. As part of our efforts to recover the species, on December 17, 2008, we reintroduced Rio Grande silvery minnows to the Big Bend area of the Rio Grande under Section 10(j) of the Act (16 U.S.C. 1531 et seq.) (73 FR 74357, December 8, 2008). We listed the species as federally endangered in 1994 (July 20, 1994, 59 FR 36988) and designated critical habitat in 2003 (February 19, 2003, 68 FR 8088). Throughout much of its historic range, the decline of the Rio Grande silvery minnow may be attributed in part to destruction and modification of its habitat due to dewatering and diversion of water, water impoundment, and modification of the river (channelization). Competition and predation by introduced non-native species, water quality degradation, and other factors may also have contributed to its decline.

Restoring an endangered or threatened animal or plant to the point where it is again a secure, self-sustaining member of its ecosystem is a primary goal of our endangered species program. To help guide the recovery effort, we are working to prepare recovery plans for most of the listed species native to the United States. Recovery plans describe actions considered necessary for conservation of species, establish criteria for downlisting or delisting them, and estimate time and cost for implementing the recovery measures. The recovery criteria form the basis from which to gauge the species' recovery and subsequent risk of extinction.

Our draft revised recovery plan, which we announced and took comments on in early 2007 (January 18, 2007, 72 FR 2301), includes scientific information about the species and provides criteria and actions needed to reclassify or delist (recover) the species. We may consider reclassifying the Rio Grande silvery minnow from endangered to threatened when three populations (including at least two that are self-sustaining) have been established within the historical range of the species and have been maintained for at least 5 years each. We may consider delisting when three self-sustaining populations have been established within the historical range of the species and have been maintained for at least 10 years each. The revised recovery criteria provide objective measures by which we may determine that populations of silvery minnow are self-sustaining.

We finalized our original Rio Grande Silvery Minnow Recovery Plan in 1999. On January 18, 2007, we issued a notice of availability and request for comments on our draft revised plan (72 FR 2301). After receiving and considering public and peer review comments on the original draft revised criteria, we developed the revised criteria and PVA document which we announce and make available with this notice. We will not re-release the draft revised plan and take further comments. After consideration of comments we received during this public comment period, we will finalize the recovery plan and make it available to the public through a Federal Register notice.

Document Availability

To download review copies of the documents from the internet, go to http://www.fws.gov/endangered and find “Search For a Species:” in the left-side menu. Type “silvery minnow” in the text box and click on “Search.” Although we are no longer accepting comments on the January 2007 draft revised recovery plan, a copy of the plan may be useful for your review of the revised draft criteria and PVA/draft Appendix H. The draft revised recovery plan may be also obtained through the methods outlined above.

Comments and materials we receive will be available for public inspection, by appointment, during normal business hours at the New Mexico Ecological Services Field Office in Albuquerque (see ADDRESSES).

Request for Public Comments

We are accepting written comments and information during this comment period on the revised draft recovery criteria and draft Appendix H. You may submit written comments by any one of the means under ADDRESSES. If you submitted comments previously on the original draft revision to the Recovery Plan (January 2007), you need not resubmit them, as we will incorporate them into the public record and fully consider them as we prepare our final revised plan.

Before including your address, phone number, e-mail address, or other personal identifying information in your comment, you should be aware that your entire comment, including your personal identifying information, may be made publicly available at any time. While you can ask us in your comment to withhold your personal identifying information from public review, we cannot guarantee that we will be able to do so.

Authority: The authority for this action is Section 4(f) of the Endangered Species Act, 16 U.S.C. 1533(f).

Dated: March 5, 2009.
Brian A Millsap,
Regional Director, Region 2.

[FR Doc. E9-8083 Filed 4-8-09; 8:45 am]

BILLING CODE 4310-55-P